DEPARTMENT OF COMMERCE

National Oceanic and Atmospheric Administration

50 CFR Part 622

[ I.D. 052201E]

Gulf of Mexico Fishery Management Council; Public Meetings

AGENCY: National Marine Fisheries Service (NMFS), National Oceanic and Atmospheric Administration (NOAA), Commerce.

ACTION: Notice of scoping meetings; request for comments.

SUMMARY: The Gulf of Mexico Fishery Management Council (Council) will convene scoping meetings to obtain public comments on essential fish habitat (EFH) issues to be discussed in and potentially added to a Supplemental Environmental Impact Statement (SEIS) for the Council’s Generic Essential Fish Habitat Amendment to the Fishery Management Plans of the Gulf of Mexico (EFH Generic Amendment).

DATES: The scoping meetings will be held in June. See SUPPLEMENTARY INFORMATION for specific dates and times of the scoping meetings.

ADDRESSES: Written comments on the scope of issues that should be addressed in and potentially added to the SEIS should be sent to and copies of the EFH Generic Amendment are available from the Council. The Council’s address is: Gulf of Mexico Fishery Management Council, The Commons at Rivergate, 3018 U.S. Highway 301, North, Suite 1000, Tampa, FL 33619-7015; telephone (813) 228-2815; fax (813) 225-7015. See SUPPLEMENTARY INFORMATION for specific dates, locations, and times of the scoping meetings.

FOR FURTHER INFORMATION CONTACT: Dr. Richard Leard, Senior Fishery Biologist, Gulf of Mexico Fishery Management Council; telephone (813) 228-2815.

SUPPLEMENTARY INFORMATION: The scoping meetings will be convened to obtain public comments on the range of issues to be discussed in the SEIS for the EFH Generic Amendment. The Council is especially interested in public views on what alternatives should be considered for the designation of EFH, the identification of Habitat Areas of Particular Concern (HAPC), and the recommendation of management measures to minimize the adverse impacts of fishing activities and gear on identified EFH and HAPC areas.

The Council prepared the EFH Generic Amendment in response to provisions of the Magnuson-Stevens Fishery Conservation and Management Act (Magnuson-Stevens Act). The EFH Generic Amendment identifies and describes EFH for the species managed under the Council’s fishery management plans; it also discusses threats to EFH from both fishing and non-fishing activities, discusses EFH conservation and enhancement opportunities, and identifies HAPCs. NMFS partially approved the EFH Generic Amendment in 1999 after conducting Secretarial review under Magnuson-Steven Act procedures. NMFS and the Council previously published a notice in the Federal Register (66 FR 15405; March 19, 2001) announcing their intent to prepare a SEIS for the EFH Generic Amendment that will supersede the environmental assessment originally prepared in support of this amendment.

Meeting Dates, Locations, and Times

The scoping meetings will be held at the following dates, locations, and times:

1. Thursday, June 14, 2001, 3 p.m.-5 p.m., Omni Bayfront Hotel, 900 North Shoreline Boulevard, Corpus Christi, TX 78401; telephone (361) 887-1600

2. Friday, June 15, 2001, 1 p.m.-3 p.m., Courtyard by Marriott, 9190 Gulf Freeway, Houston, TX 77017; telephone (713) 910-1700

3. Monday, June 18, 2001, 2 p.m.- 4 p.m., New Orleans Airport Hilton, 901 Airline Drive, Kenner, LA 70062; telephone (504) 469-5000

4. Tuesday, June 19, 2001, 3 p.m.-5 p.m., Imperial Palace Hotel, 850 Bayview, Biloxi, MS 39530; telephone (228) 436-3000

5. Thursday, June 21, 2001, 3 p.m.-5 p.m., National Marine Fisheries Service, 3500 Delwood Beach Road, Panama City, FL 32408; telephone (850) 234-6541

6. Monday, June 25, 2001, 3 p.m.-5 p.m., Holiday Inn Beachside, 3841 North Roosevelt Boulevard, Key West, FL 33040; telephone (305) 294-2571

7. Thursday, June 28, 2001, 3 p.m.-5 p.m., Tampa Airport Hilton, 2225 Lois Avenue, Tampa, FL 33607; telephone (813) 877-6688

Special Accommodations

These meetings are physically accessible to people with disabilities. Requests for sign language interpretation or other auxiliary aids should be directed to Anne Alford at the Council (see ADDRESSES) by June 8, 2001.

Dated: June 4, 2001.
Bruce C. Morehead,
Acting Director, Office of Sustainable Fisheries, National Marine Fisheries Service.

[FR Doc. 01-14521 Filed 6-7-01; 8:45 am]

BILLING CODE 3510-22-S